NUCLEAR WASTE TECHNICAL REVIEW BOARD

Notice of a Board Meeting; Amargosa Valley, NV

Board meeting: September 27, 2006—Amargosa Valley, Nevada; The U.S. Nuclear Waste Technical Review Board will meet to discuss U.S. Department of Energy efforts to develop and articulate a safety case for the proposed Yucca Mountain repository.

Pursuant to its authority under section 5051 of Public Law 100-203, Nuclear Waste Policy Amendments Act of 1987, the U.S. Nuclear Waste Technical Review Board will meet in Amargosa Valley, Nevada, on Wednesday, September 27, 2006, to review the Department of Energy's (DOE) efforts to develop and articulate a safety case for a proposed geologic repository for the disposal of spent nuclear fuel and high-level radioactive waste at Yucca Mountain in Nevada. The Board was charged in the Nuclear Waste Policy Amendments Act of 1987 with conducting an independent review of the technical and scientific validity of DOE activities related to implementing the Nuclear Waste Policy Act.

A final meeting agenda will be available on the Board's Web site (http://www.nwtrb.gov) approximately one week before the meeting date. The agenda also may be obtained by telephone request at that time. The meeting will be open to the public, and opportunities for public comment will be provided.

The meeting will be held at the Longstreet Inn and Casino; Stateline and Highway 373; Amargosa Valley, Nevada 89020; telephone 775-372-1777; fax 775-372-1280.

The meeting will begin at 8 a.m. with an overview of the Yucca Mountain program. Presentations on DOE's safety case will continue throughout the day.

Time will be set aside at the end of the day for public comments. Those wanting to speak are encouraged to sign the “Public Comment Register” at the check-in table. A time limit may have to be set on individual remarks, but written comments of any length may be submitted for the record.

Transcripts of the meeting will be available on the Board's Web site, by e-mail, on computer disk, and on a library-loan basis in paper format from Davonya Barnes of the Board's staff no later than October 23, 2006.

For more information, contact Karyn Severson, NWTRB External Affairs; 2300 Clarendon Boulevard, Suite 1300; Arlington, VA 22201-3367; 703-235-4473; fax 703-235-4495.

Dated: August 16, 2006.
William D. Barnard,
Executive Director, Nuclear Waste Technical Review Board.

[FR Doc. 06-7050 Filed 8-18-06; 8:45 am]

BILLING CODE 6820-AM-M